SECURITIES AND EXCHANGE COMMISSION

[Release No. 34-42449; File No. SR-CHX-99-14]

Self-Regulatory Organizations; Notice of Withdrawal of Proposed Rule Change by the Chicago Stock Exchange, Inc. Relating to “Stop” and “Stop Limit” Orders

February 22, 2000.

On August 28, 1999, the Chicago Stock Exchange, Inc. (“CHX” or “Exchange”) filed with the Securities and Exchange Commission (“Commission”) a proposed rule change, pursuant to Section 19(b)(1) of the Securities Exchange Act of 1934 (“Act”),¹ and Rule 19b-4 thereunder,² to add Article XX, Rule 28A to the Exchange's Rules relating to “stop” and “stop limit” orders to clarify that the existing Rule 28 of Article XX relates solely to “stopped” orders. Notice of the proposed rule change was published on October 7, 1999, in the Federal Register, to solicit comment from interested persons.³ On February 7, 2000, the Exchange withdrew the proposed rule change.⁴

¹ 15 U.S.C. 78s(b)(1).

² 17 CFR 240.19b-4

³ Securities Exchange Act Release No. 41969 (September 30, 1999), 64 FR 54702.

⁴ See letter from Kathleen Boege, Associate General Counsel, CHX, to Katherine England, Assistant Director, Division of Market Regulation, Commission, dated, February 7, 2000.

For the Commission, by the Division of Market Regulation, pursuant to delegated authority.⁵

⁵ 17 CFR 200.30-3(a)(12).

Margaret H. McFarland,
Deputy Secretary.

[FR Doc. 00-5061 Filed 3-1-00; 8:45 am]

BILLING CODE 8010-01-M